ARCHITECTURAL AND TRANSPORTATION BARRIERS COMPLIANCE BOARD

36 CFR Part 1191

[Docket No. 99-1]

RIN 3014-AA20

Americans With Disabilities Act (ADA) Accessibility Guidelines for Buildings and Facilities; Architectural Barriers Act (ABA) Accessibility Guidelines; Corrections

AGENCY: Architectural and Transportation Barriers Compliance Board.

ACTION: Correcting amendments.

SUMMARY: The Architectural and Transportation Barriers Compliance Board (Access Board) published a final rule in the Federal Register on July 23, 2004 revising and updating its accessibility guidelines for buildings and facilities covered by the Americans with Disabilities Act of 1990 (ADA) and the Architectural Barriers Act of 1968 (ABA). This document contains correcting amendments to the final rule.

DATES: The correcting amendments are effective September 6, 2005.

FOR FURTHER INFORMATION CONTACT: Marsha Mazz, Office of Technical and Information Services, Architectural and Transportation Barriers Compliance Board, 1331 F Street, NW., Suite 1000, Washington, DC 20004-1111. Telephone numbers: (202) 272-0020 (voice); (202) 272-0082 (TTY). E-mail address: ta@access-board.gov.

SUPPLEMENTARY INFORMATION: The final rule published in the Federal Register on July 23, 2004 (69 FR 44084) revising and updating the accessibility guidelines for buildings and facilities covered by the Americans with Disabilities Act of 1990 (ADA) and the Architectural Barriers Act of 1968 (ABA) contained some errors and omissions, which are corrected by this document.

Appendix B to Part 1191—Americans With Disabilities Act: Scoping

The following is a description of the corrections made to Appendix B to Part 1191—Americans with Disabilities Act: Scoping:

1. On page 12, in § 106.5 the term “amusement attractions” is italicized in the second sentence since the term is defined in § 106.5.

2. On page 20, in § 202.5 the word “or” in the term “qualified historic building or facility” is italicized since the term is defined in § 106.5.

3. On page 22, § 203.9 is amended to exclude raised courtroom stations from the general exception for small, elevated employee work areas. There is a specific exception for raised courtroom stations in § 206.2.4.

4. On page 29, § 206.4.4.1 is amended by adding the words “serving each fixed route or group of fixed routes” after the term “public entrance.” These words were in § 10.3.1(2) of the former guidelines. The amendment clarifies that, where different entrances serve different transportation fixed routes or groups of fixed routes, at least one public entrance serving each fixed route or group of fixed routes is required to be accessible.

5. On page 34, in § 208.2.3 the term “facilities” is italicized since the term is defined in § 106.5.

6. On page 70, in § 242.3 the term “accessible” is italicized in the second sentence since the term is defined in § 106.5.

Appendix C to Part 1191—Architectural Barriers Act: Scoping

The following is a description of the corrections made to Appendix C to Part 1191—Architectural Barriers Act: Scoping:

1. On page 79, in § F106.3 the blank spaces after the words “United States Postal Service” are deleted and a single space is inserted in their place.

2. On page 80, in § F106.5 the term “amusement attractions” is italicized in the second sentence since the term is defined in § F106.5.

3. On page 87, in § F202.5 the word “or” in the term “qualified historic building or facility” is italicized since the term is defined in § F106.5.

4. On page 97, § F206.4.4.1 is amended by adding the words “serving each fixed route or group of fixed routes” after the term “public entrance.” The amendment is consistent with an amendment made to § 206.4.4.1 in Appendix B to Part 1191—Americans with Disabilities Act: Scoping.

5. On page 102, in § F208.2.3 the term “facilities” is italicized since the term is defined in § F106.5; and in § F208.2.4 one indent is removed and the section is placed in-line with § F208.2.3.

6. On page 127, in § F233.1 the indent is removed and the section is placed in-line with § F233.

7. On page 128, in § F233.2 the indent is removed and the section is placed in-line with § F233.1.

Appendix D to Part 1191—Technical

The following is a description of the corrections made to Appendix D to Part 1191—Technical:

1. On page 173, in § 407.2.3.1 the word “and” is deleted after the words “complying with 703.2 and 703.4.1.”

2. On page 178, in Table 407.2.3.1 the quotation mark is deleted after the letter “P” in the first row of the third column.

3. On page 191, in the advisory note under § 505.4 the word “principle” is deleted and the word “principal” is inserted in its place in the second sentence.

4. On page 197, in the advisory note under § 606.3 the redundant words “and people” are deleted.

5. On page 225, Figure 703.3.1 is revised to correctly reflect the requirements in Table 703.3.1.

6. On page 247, three sections are corrected. In the exception under § 806.2.3, the term “space” is italicized the second time the term is used since the term is defined in §§ 106.5 and F106.5. Section 806.2.4 is amended to clarify that at least one bathroom in an accessible guest room is required to be accessible; to reference the applicable requirements for accessible toilet and bathing fixtures in Chapter 6; and to permit accessible toilet and bathing fixtures to be located in more than one toilet or bathing area, provided that travel between the fixtures does not require travel between other parts of the guest room. In § 806.2.4.1, the italics are deleted in the second part of the word “non-accessible.”

7. On pages 248 through 251, the text is shifted due to the corrections on page 247. There are no other corrections on pages 248 and 249.

8. On page 250, in § 809.4 the words “toilet and bathing facility” are deleted and the word “bathroom” is inserted in their place, and the words “through 610” are deleted in the first sentence; and the words “at least” are deleted and the words “no fewer than” are inserted in their place in the second sentence. In the advisory note under § 809.4, the first and second sentences are deleted.

9. On page 251, § 809.5.2.2 is renumbered § 809.5.2.1.

Appendix E to Part 1191—List of Figures and Index

On pages 299, 300, 302, and 304, the page numbers listed in the index are revised to correctly list the pages where items are found as a result of the text shifts on pages 248 through 251.

List of Subjects in 36 CFR Part 1191

Buildings and facilities, Civil rights, Incorporation by reference, Individuals with disabilities, Transportation.

Jan Tuck,
Chair, Architectural and Transportation Barriers Compliance Board.

Accordingly, 36 CFR part 1191 is corrected by making the following correcting amendments:

PART 1191—AMERICANS WITH DISABILITIES ACT (ADA) ACCESSIBILITY GUIDELINES FOR BUILDINGS AND FACILITIES; ARCHITECTURAL BARRIERS ACT (ABA) ACCESSIBILITY GUIDELINES

1. The authority citation for 36 CFR part 1191 continues to read as follows:

Authority: 29 U.S.C. 792(b)(3); 42 U.S.C. 12204.

2. Appendix B to Part 1191—Americans with Disabilities Act: Scoping is amended by revising pages 12, 20, 22, 29, 34, and 70 as set forth below.

Appendix B to Part 1191—Americans With Disabilities Act: Scoping

BILLING CODE 8150-01-P

3. Appendix C to Part 1191—Architectural Barriers Act: Scoping is amended by revising pages 79, 80, 87, 97, 102, 127, and 128 as set forth below.

Appendix C to Part 1191—Architectural Barriers Act: Scoping

4. Appendix D to Part 1191—Technical is amended by revising pages 173, 178, 191, 197, 225 and 247 through 251 as set forth below.

Appendix D to Part 1191—Technical

5. Appendix E to Part 1191—List of Figures and Index is amended by revising pages 299, 300, 302, and 304 as set forth below.

Appendix E to Part 1191—List of Figures and Index

[FR Doc. 05-15484 Filed 8-4-05; 8:45 am]

BILLING CODE 8150-01-C